DEPARTMENT OF ENERGY

Federal Energy Regulatory Commission

[Docket No. CP13-520-000]

EQT Gathering LLC; Notice of Application for Limited Jurisdiction Certificate

Take notice that on July 15, 2013, EQT Gathering LLC (EQT), 625 Liberty Avenue, Suite 1700, Pittsburgh, Pennsylvania 15222-3111, filed an application under Section 7 of the Natural Gas Act and Part 157 the Commission's Rules and Regulations for authorization to enable EQT to provide limited, ancillary jurisdictional service on its planned Derry Compressor Station (Derry Facilities) in Westmoreland, Pennsylvania. EQT plans to construct, own, and operate Derry for the primary purpose of providing non-jurisdictional compression services to increase the capacity and operational reliability of EQT's gathering facilities in southwestern Pennsylvania, all as more fully set forth in the application which is on file with the Commission and open to public inspection.

The Derry Facilities, will consist of a compressor station with three compressor engines totaling 14,205 horsepower, with design suction and discharge pressures of 250 psig and 1,050 psig. respectively. The Derry Facilities will receive locally produced pipeline-quality unprocessed gas from EQT's Three Rivers gathering system; dehydrate the gas; then discharge the gas via an approximately 200-foot discharge line into the Texas Eastern Transmission, LP system. The Derry Facilities will initially receive gas from the Three Rivers gathering system, and EQT anticipates that the Derry Facilities will also receive locally produced gas from other EQT Gathering facilities in the future. The Derry Facilities will gather gas to be compressed and redelivered into the interstate pipeline grid.

EQT seeks a certificate of limited jurisdiction to enable it to also provide limited, ancillary jurisdictional services on the Derry Facilities and waiver of filing and reporting requirements and annual charges that might otherwise apply. The Derry Facilities' primary function is gathering as part of EQT's gathering system, but EQT proposes to also receive a limited quantity of up to 50 megadecatherms per day of natural gas at the Derry Facilities from a new interconnect with the Peoples Natural Gas Company's (Peoples) TP-371 pipeline (TP-371) in Westmoreland County, Pennsylvania. TP-371 is primarily a 12-inch diameter pipeline for which Peoples has limited authority from the Commission to provide interstate service. The operator of the TP-371 Line will deliver gas into the Texas Eastern system through EQT's 200 foot discharge line after the gas is compressed by the planned Derry Facilities.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Pursuant to Section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any questions regarding this Application should be directed to Paul W. Diehl, EQT Corporation, 625 Liberty Avenue, Suite 1700, Pittsburgh, Pennsylvania 15222-3111, telephone no. (412) 395-5540, facsimile no. (412) 553-7781 and email PDiehl@eqt.com.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5:00 p.m. Eastern Time on August 8, 2013.

Dated: July 18, 2013.
Kimberly D. Bose,
Secretary.

[FR Doc. 2013-17815 Filed 7-24-13; 8:45 am]

BILLING CODE 6717-01-P